DEPARTMENT OF DEFENSE

Department of the Army

[Docket ID USA-2014-0039]

Privacy Act of 1974; System of Records

AGENCY: Department of the Army, DoD.

ACTION: Notice to alter a System of Records.

SUMMARY: The Department of the Army proposes to alter a system of records notice A0027-10a DAJA, entitled “Military Justice Files” in its existing inventory of records systems subject to the Privacy Act of 1974, as amended. This system is used to prosecute or otherwise resolve military justice cases; to obtain information and assistance from federal, state, local, or foreign agencies, or from individuals or organizations relating to an investigation, allegation of criminal misconduct, or court-martial; and to provide information and support to victims and witnesses in compliance with Victim and Witness Assistance Statutes and regulations; and to provide support for non-judicial and other administrative or disciplinary proceedings.

Records will be used to conduct statistical studies for assisting The Judge Advocate General and servicing Staff Judge Advocates in the management and administration of military justice.

DATES: Comments will be accepted on or before November 26, 2014. This proposed action will be effective on the date following the end of the comment period unless comments are received which result in a contrary determination.

ADDRESSES: You may submit comments, identified by docket number and title, by any of the following methods:

• Federal Rulemaking Portal: http://www.regulations.gov/. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Office Web site at http://dpclo.defense.gov/.

The proposed systems reports, as required by 5 U.S.C. 552a(r) of the Privacy Act, as amended, were submitted on October 20, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: October 22, 2014.
Aaron Siegel,
Alternate OSD Federal Register Liaison Officer, Department of Defense.

A0027-10a DAJA

System name:

Military Justice Files (August 5, 2003, 68 FR 46168)

Changes:

* * * * *

System location:

Delete entry and replace with “Primary location: Department of the Army, Office of The Judge Advocate General, 2200 Army Pentagon, Washington, DC 20310-2200.

Secondary locations: Staff Judge Advocate Offices, at major Army commands, field operating agencies, Brigade Judge Advocate Offices, installations and activities Army-wide. Official mailing addresses are published as an appendix to the Army's compilation of systems of records notices.”

Categories of individuals covered by the system:

Delete entry and replace with “Any Army military individual who is the subject of a military justice investigation, trial by courts-martial, or other administrative or disciplinary proceeding.”

Categories of records in the system:

Delete entry and replace with “Individual's name, Social Security Number (SSN), witness statements; pretrial advice; documentary evidence; exhibits, evidence of previous convictions; personnel records; recommendations as to the disposition of the charges; explanation of any unusual features of the case; charge sheet; and criminal investigation reports; convening orders; appointment orders; investigative reports of federal, state, and local law enforcement agencies; local command investigations; immunity requests; search authorizations; general correspondence; legal research and memoranda; motions; forensic reports; pretrial confinement orders; personal, financial, and medical records; Article 32, Uniform Code of Military Justice (UCMJ) investigations; subpoenas; discovery requests; correspondence reflecting pretrial negotiations; requests for resignation or discharge in lieu of trial by court-martial; results of trial memoranda; and forms to comply with the Victim and Witness Assistance Program, the Sexual Assault Prevention and Response Program and the Victim's Rights and Restitution Act of 1990. Non-judicial punishment (Article 15) actions: administrative separation actions; suspension of favorable personnel actions; Trial Defense Service and trial defense counsel personnel information, and attorney work-product, trial judiciary personnel information, dockets; and trial records; Army Court of Criminal Appeals, judicial orders, and opinions; and all other documents related to the administration of Military Justice, administrative separations, memoranda of reprimand, and investigations.”

Authority for maintenance of the system:

Delete entry and replace with “10 U.S.C. 3013, Secretary of the Army; 42 U.S.C. 10607, Services to Victims; 10 U.S.C. 806b, Victim Rights; DoD Directive 1030.01, Victim and Witness Assistance; DoD Instruction 1030.2, Victim and Witness Procedures; Army Regulation 27-10, Military Justice; and E.O. 9397 (SSN), as amended.”

* * * * *

Safeguards:

Delete entry and replace with “Automated files are password protected and in compliance with the applicable laws and regulations. Paper records in file cabinets are accessible only to authorized personnel who are properly instructed in the permissible use. The files are not accessible to the public or to persons within the command without an official need to know. File cabinets have locking capabilities and offices are locked during non-work hours. DoD Components and approved users ensure that electronic records collected and used are maintained in controlled areas accessible only to authorized personnel. Physical security differs from site to site, but the automated records must be maintained in controlled areas accessible only by authorized personnel. Access to computerized data is restricted by use of common access cards (CACs) and is accessible only by users with an authorized account. The system and electronic backups are maintained in controlled facilities that employ physical restrictions and safeguards such as security guards, identification badges, key cards, and locks.”

Retention and disposal:

Delete entry and replace with “Records are destroyed by erasure, shredding or burning two years after final review/appellate action.”

* * * * *

Notification procedure:

Delete entry and replace with “Individuals seeking to determine whether information about themselves is contained in this system should address written inquiries to the Chief, Criminal Law Division, Office of The Judge Advocate General, 2200 Army Pentagon, Washington, DC 20310-2200.

Individual should provide his/her full name, current address and telephone number, case number and office symbol of Army element which furnished correspondence to the individual, other personnel identifying data that would assist in locating the records, and be signed.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).' ”

Record access procedures:

Delete entry and replace with “Individuals seeking access to information about themselves contained in this system should address written inquiries to the Chief, Criminal Law Division, Office of The Judge Advocate General, 2200 Army Pentagon, Washington, DC 20310-2200.

Individual should provide his/her full name, current address and telephone number, case number and office symbol of Army element which furnished correspondence to the individual, other personal identifying data that would assist in locating the records, and be signed.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).' ”

* * * * *

[FR Doc. 2014-25480 Filed 10-24-14; 8:45 am]

BILLING CODE 5001-06-P